FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201103-018.

Agreement Name: Memorandum Agreement of December 14, 1983 Concerning Assessments to Pay ILWU-PMA Employee Benefit Costs.

Parties: International Longshoremen's and Warehousemen's Union; Pacific Maritime Association.

Filing Party: Robert Magovern, Cozen O'Connor.

Synopsis: The amendment revises the divisor for the man-hour base assessment rate in the agreement, and also accordingly revises various figures set forth in Appendix 1.

Proposed Effective Date: 4/23/2025.

Location: https://www2.fmc.gov/FMC.Agreements.Web/Public/AgreementHistory/10164.

Agreement No.: 201175-008.

Agreement Name: Port of NY/NJ Sustainable Services Agreement.

Parties: APM Terminals Elizabeth, LLC; Port Liberty Bayonne, LLC; Port Liberty New York LLC; Port Newark Container Terminal LLC; Red Hook Container Terminal, LLC.

Filing Party: Carol Lambos, The Lambos Firm LLP.

Synopsis: The Amendment deletes Maher Terminals LLC as a member of the Agreement.

Proposed Effective Date: 4/21/2025.

Location: https://www2.fmc.gov/FMC.Agreements.Web/Public/AgreementHistory/8136.

Agreement No.: 201210-004.

Agreement Name: Port of NY/NJ—Port Authority/Marine Terminal Operators Agreement.

Parties: APM Terminals Elizabeth, LLC; Port Liberty Bayonne, LLC; Port Newark Container Terminal LLC; Red Hook Container Terminal, LLC.

Filing Party: Carol Lambos, The Lambos Firm LLP.

Synopsis: The Amendment deletes Maher Terminals LLC as a member of the Agreement.

Proposed Effective Date: 4/21/2025.

Location: https://www2.fmc.gov/FMC.Agreements.Web/Public/AgreementHistory/2135.

Agreement No.: 201391-004.

Agreement Name: South Atlantic Multiport Chassis Pool Agreement.

Parties: Ocean Carrier Equipment Management Association, Inc.; South Atlantic Consolidated Chassis Pool LLC; Consolidated Chassis Management LLC; UIE Pools LLC; United Intermodal Enterprises LLC; Georgia Ports Authority; Jacksonville Port Authority; North Carolina State Ports Authority; American President Lines, LLC; CMA CGM S.A.; COSCO SHIPPING Lines Co., Ltd.; Evergreen Line Joint Service Agreement FMC No. 011982; Hapag-Lloyd AG and Hapag-Lloyd USA LLC (acting as a single party); HMM Company Limited; Maersk A/S and Hamburg Sud (acting as a single party); MSC Mediterranean Shipping Company S.A.; Ocean Network Express Pte., Ltd.; Wan Hai Lines Ltd.; and Zim Integrated Shipping Services Ltd.

Filing Party: Joshua Stein; Cozen O'Connor.

Synopsis: The Amendment 1) extends the term to run through September 30, 2038 and modifies the provisions relating to withdrawal at the end of the Term to reflect same; 2) clarifies that rate stability, the impact of a proposed Rental Rate on the competitiveness of the Pool, and achieving Pool revenue objectives are factors considered in developing Pool Rental Rates; and 3) increases the Pool Target Utilization to 75%.

Proposed Effective Date: 6/5/2025.

Location: https://www2.fmc.gov/FMC.Agreements.Web/Public/AgreementHistory/65506.

Dated: April 25, 2025.
Alanna Beck,
Federal Register Alternate Liaison Officer.

[FR Doc. 2025-07459 Filed 4-29-25; 8:45 am]

BILLING CODE 6730-02-P